DEPARTMENT OF COMMERCE

Economics and Statistics Administration

[Docket No. xxxxxxxxx-xxxx-01]

XRIN xxxx-XCxxx

Notice of Establishment of American Workforce Policy Advisory Board; Solicitation of Nominations for Membership on Advisory Board

AGENCY: Economics and Statistics Administration, Department of Commerce.

ACTION: Notice; solicitation of nominations.

SUMMARY: The Department of Commerce announces the establishment of the American Workforce Policy Advisory Board, pursuant to Executive Order 13845, Establishing the President's National Council for the American Worker, (E.O. 13845 or executive order), and in accordance with the Federal Advisory Committee Act (FACA). The Board will provide advice and recommendations to the National Council for the American Worker (Council) on ways to encourage the private sector and educational institutions to combat the skills crisis by investing in and increasing demand-driven education, training, and re-training, including training through apprenticeships and work-based learning opportunities. The Secretary of Commerce is also requesting nominations for membership to the Board. The President, with input from the Secretary of Commerce and Advisor to the President overseeing the Office of Economic Initiatives (as co-chairs of the Board), will consider nominations received in response to this notice.

DATES: The Department of Commerce must receive nominations for members by midnight on October 1, 2018.

ADDRESSES: Submit nominations to AmericanWorkforcePolicyAdvisoryBoard@doc.gov.

FOR FURTHER INFORMATION CONTACT: Grant Gardner, Office of Business Liaison, Department of Commerce, 1401 Constitution Avenue NW, Washington, DC 20230, (202) 482-2177, and email GGardner@doc.gov.

SUPPLEMENTARY INFORMATION:

I. The American Workforce Policy Advisory Board

Our nation is facing a skills crisis. There are currently 6.7 million unfilled jobs in the United States, and American workers need the skills training to fill them. At the same time, the economy is changing at a rapid pace because of the technology, automation, and artificial intelligence that is shaping many industries, from manufacturing to healthcare to retail. For too long, our country's education and job training programs have prepared Americans for the economy of the past.

The rapidly changing digital economy requires the United States to view education and training as encompassing more than a single period of time in a traditional classroom. We need to prepare Americans for the 21st century economy and the emerging industries of the future. We must foster an environment of lifelong learning and skills-based training and cultivate a demand-driven approach to workforce development.

To address the skills crisis, the President issued E.O. 13845 to establish the National Council for the American Worker (Council). The executive order directs the Council to champion effective, results-driven education and training so that American students and workers can obtain the skills they need to succeed in the jobs of today and of the future. This notice announces the establishment of the American Workforce Policy Advisory Board (Board), pursuant to E.O. 13845 and in accordance with the Federal Advisory Committee Act (FACA), as amended (5 U.S.C. App.), to support the Council.

The Board will provide advice and recommendations to the Council on the workforce policy of the United States. One of the Board's activities will be to recommend steps to encourage the private sector and educational institutions to combat the skills crisis by investing in and increasing demand-driven workforce development, education, training, and re-training, for example through apprenticeships and work-based learning opportunities.

Unless otherwise extended, the Board will terminate July 19, 2020, two years after the date of the Executive Order. Insofar as the FACA may apply to the Board, the Secretary of Commerce will perform any functions of the President under that act, except for those in section 6 and section 14 of FACA, and will do so in accordance with the guidelines issued by the Administrator of General Services. The Department of Commerce shall provide the Board with funding and administrative support as may be necessary for the performance of the Board's functions.

The Board will be made up of two co-chairs—the Secretary of Commerce and the Advisor to the President overseeing the Office of Economic Initiatives—and up to 25 members appointed by the President from among citizens outside the Federal government. Members chosen will be representatives of the various sectors of the economy, including the private sector, employers, educational institutions, and State governments, to offer diverse perspectives on how the Federal Government can improve workforce development through education, training, and re-training for American workers. The Board members appointed by the President could include business leaders; administrators and educators of K-12 schools, community colleges, and universities; State, tribal, and local government officials; heads of organized labor; and leaders from the nonprofit sector. The President will make reasonable efforts to ensure members represent a diverse spectrum of these sectors.

All members appointed by the President will be representative members and serve at the pleasure of the President. The membership balance may adjust depending on the needs of the President, Secretary, and the work of the Council.

II. Description of Board Member Duties

The Board will advise the Council in the Council's efforts to work with private employers, educational institutions, labor unions, other non-profit organizations, and State, territorial, tribal, and local governments to update and reshape our education and job training landscape so that it better meets the needs of American students, workers, and businesses.

Members must be able to actively participate in the tasks of the Board including, but not limited to regularly attending and participating in meetings, reviewing materials, and participating in conference calls, working groups, and formal subcommittees. The Board may advise the Council in any of its efforts, so the President will consider nominees who can best support, in an advisory capacity, any of the following Council functions:

• Devising a national strategy for empowering American workers on how the Federal government can work with non-Federal stakeholders to create and promote workforce development strategies that provide evidence-based, affordable education and skills-based training for youth and adults to prepare them for the jobs of today and of the future;

• fostering close coordination, cooperation, and information exchange within the Federal government and between the government and non-Federal stakeholders as related to issues concerning the education and training of Americans, including through the use of online learning resources;

• increasing transparency related to education and job-training program options, including those options offered at 4-year institutions and community colleges;

• proposing ways to increase access to available job data, including data on industries and geographic locations with the greatest numbers of open jobs and projected future opportunities, as well as data on the underlying skills required to fill open jobs;

• developing a national campaign to raise awareness of relevant matters, such as the urgency of the skills crisis; the importance of science, technology, engineering, and mathematics education; the creation of new industries and job opportunities spurred by emerging technologies; the changing nature of many careers in the trades and manufacturing; and the need for companies to invest in the training and re-training of their workers;

• developing a plan for recognizing companies that demonstrate excellence in workplace education, training, and re-training policies and investments, in order to galvanize industries to identify and adopt best practices, innovate their workplace policies, and invest in their workforces; and

• examining how the Federal government can work with non-Federal stakeholders to support the implementation of recommendations from the Task Force on Apprenticeship Expansion established in Executive Order 13801 of June 15, 2017 (Expanding Apprenticeships in America).

III. Structure of Advisory Board

As stated above, the Secretary and the Advisor to the President overseeing the Office of Economic Initiatives will serve as co-chairs. In addition to the co-chairs, the Board shall consist of up to 25 members. The President will appoint members and they will serve at the pleasure of the President. The Secretary will provide the President with a list of potential nominees for final consideration of Board membership. Potential nominees will represent a cross-section of the private sector, non-profit, employers, educational institutions, and States. The Secretary's list will ensure balance and a diversity of perspectives. The Secretary's nominees will be prominent in their fields, recognized for their professional and other relevant achievements.

As necessary, the Board may establish, with the consent or at the direction of the Office of the Under Secretary of Economic Affairs and the Office of the Secretary, such subcommittees as it considers necessary for the performance of its functions. All subcommittees must report back to the full Board, members and subcommittees must not provide advice or work products directly to any Federal agency or official.

Appointed Board members will serve for a term of up to two years (the balance of the initial term of the Board). If the term of the Board is extended, members shall be eligible for reappointment, and may continue to serve after the expiration of their terms until the appointment of a successor. When vacancies occur, the Secretary will identify for appointment nominees who can best either replicate the perspective of the departing member or provide the Board with a new, identified needed perspective.

IV. Compensation for Members of the Advisory Board

Members of the Board shall serve without any compensation for their work on the Board. Members of the Board, while engaged in the work of the Board, will, upon request, be reimbursed for travel expenses, including per diem in lieu of subsistence, to the extent permitted by law for persons serving intermittently in government service (5 U.S.C. 5701-5707), consistent with the availability of funds.

V. Solicitation of Nominations

The Secretary will consider nominations of all qualified individuals to ensure that the Board includes the areas of experience noted above. Individuals may nominate themselves or other individuals, and professional associations and organizations may nominate one or more qualified persons for membership on the Board. Nominations shall state that the nominee is willing to serve as a member and carry out the duties of the Board.

A nomination package should include the following information for each nominee: (1) A letter of nomination stating the name, affiliation, and contact information for the nominee, the basis for the nomination (i.e., what specific attributes recommend him/her for service in this capacity), and the nominee's field(s) of experience; (2) a biographical sketch of the nominee and a copy of his/her curriculum vitae; and (3) the name, return address, email address, and daytime telephone number at which the nominator can be contacted.

The President and the Secretary encourage nominations for appropriately qualified female, minority, or disabled candidates. The President and the Secretary also encourage geographic diversity in the composition of the Board. All nomination information should be provided in a single, complete package by midnight on October 1, 2018. Interested applicants should send their nomination package to AmericanWorkforcePolicyAdvisoryBoard@doc.gov.

Dated: August 23, 2018.
Jeremy Pelter,
Chief Financial Officer and Director of Administration for the Economics and Statistics Administration.

[FR Doc. 2018-18893 Filed 8-29-18; 8:45 am]

BILLING CODE 3510-06-P